DEPARTMENT OF LABOR

Employment and Training Administration

[TA-W-73,396]

Ingersoll-Rand/Harrow Products, Inc., Formerly Known as Locknetics Including On-Site Leased Workers From Monroe Staffing Services, Adecco USA, Inc., and Infinistaff, LLC, Bristol, CT; Amended Certification Regarding Eligibility To Apply for Worker Adjustment Assistance

In accordance with Section 223 of the Trade Act of 1974, as amended (“Act”), 19 U.S.C. 2273, the Department of Labor issued a Certification of Eligibility to Apply for Worker Adjustment Assistance on June 23, 2010, applicable to workers of Ingersoll-Rand, formerly known as Locknetics, Security Technologies Division, Bristol, Connecticut. The notice will be published soon in the Federal Register.

At the request of the State agency, the Department reviewed the certification for workers of the subject firm. The workers are engaged in the production of electronic security devices for commercial applications.

New information shows that workers leased from Monroe Staffing Services, Adecco USA, Inc., and Infinistaff, LLC, were employed at the Bristol, Connecticut location of Ingersoll-Rand/Harrow Products, Inc., formerly known as Locknetics, Security Technologies Division. The Department has determined that these workers were sufficiently under the control of Ingersoll-Rand, formerly known as Locknetics, Security Technologies Division to be considered leased workers.

Information also shows that Ingersoll-Rand purchased Harrow Products, Inc., in 1999, and as a result, some workers separated from employment at the subject firm had their wages reported under a separate unemployment insurance (UI) tax account under the name Harrow Products, Inc.

Accordingly, the Department is amending this certification to properly reflect these matters.

The intent of the Department's certification is to include all workers of the subject firm who were adversely affected by a shift in production of electronic security devices for commercial applications to Mexico.

The amended notice applicable to TA-W-73,396 is hereby issued as follows:

All workers of Ingersoll-Rand/Harrow Products, Inc., formerly known as Locknetics, Security Technologies Division including on-site leased workers from Monroe Staffing Services, Adecco USA, Inc., and Infinistaff, LLC, Bristol, Connecticut, who became totally or partially separated from employment on or after January 26, 2009 through June 23, 2012, and all workers in the group threatened with total or partial separation from employment on date of certification through two years from the date of certification, are eligible to apply for adjustment assistance under Chapter 2 of Title II of the Trade Act of 1974, as amended.

Signed at Washington, DC, this 16th day of July 2010.
Michael W. Jaffe,
Certifying Officer, Division of Trade Adjustment Assistance.

[FR Doc. 2010-18830 Filed 7-30-10; 8:45 am]

BILLING CODE 4510-FN-P